COMMISSION ON CIVIL RIGHTS

Agenda and Notice of Public Meeting of the Kansas Advisory Committee

Notice is hereby given, pursuant to the provisions of the rules and regulations of the U.S. Commission on Civil Rights (Commission), and the Federal Advisory Committee Act (FACA), that a planning meeting of the Kansas Advisory Committee to the Commission will convene on Wednesday, July 23, 2008 at 1 p.m and adjourn at 3 p.m at the Ogletree, Deakins, Nash, Smoak, & Stewart Law Firm, 4717 Grand Avenue, Suite 300, Kansas City, MO 64108. The purpose of the meeting is to conduct orientation and program planning for future SAC activities.

Members of the public are entitled to submit written comments; the comments must be received in the Central Regional Office by July 8, 2008. The address is 400 State Avenue, Suite 908, Kansas City, Kansas 66101. Persons wishing to e-mail their comments, or to present their comments verbally at the meeting, or who desire additional information should contact Farella E. Robinson, Regional Director, Central Regional Office, at (913) 551-1400 or by e-mail frobinson@usccr.gov.

Hearing-impaired persons who will attend the meeting and require the services of a sign language interpreter should contact the Regional Office at least ten (10) working days before the scheduled date of the meeting.

Records generated from this meeting may be inspected and reproduced at the Central Regional Office, as they become available, both before and after the meeting. Persons interested in the work of the advisory committee are advised to go to the Commission's Web site, http://www.usccr.gov, or to contact the Central Regional Office at the above e-mail or street address.

The meetings will be conducted pursuant to the provisions of the rules and regulations of the Commission and FACA.

Dated in Washington, DC, May 30, 2008.
Christopher Byrnes,
Chief, Regional Programs Coordination Unit.

[FR Doc. E8-12557 Filed 6-4-08; 8:45 am]

BILLING CODE 6335-01-P